INTERNATIONAL TRADE COMMISSION

[Investigation No. 337-TA-613 (Remand)]

Certain 3G Mobile Handsets and Components Thereof; Commission Determination Not To Review an Initial Determination Granting a Motion of Complainants Interdigital Communications Corp. and Interdigital Technology Corp. To Substitute Parties

AGENCY: U.S. International Trade Commission.

ACTION: Notice.

SUMMARY: Notice is hereby given that the U.S. International Trade Commission has determined not to review the presiding administrative law judge's (“ALJ”) initial determination (“ID”) (Order No. 53) granting a motion of complainants InterDigital Communications Corp. of King of Prussia, Pennsylvania and InterDigital Technology Corp. of Wilmington, Delaware (collectively, “InterDigital”) to substitute parties. The Notice of Investigation is amended accordingly.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted Inv. No. 337-TA-613 on September 11, 2007, based on a complaint filed by InterDigital on August 7, 2007. 72 FR 51838 (Sept. 11, 2007). The complaint, as amended, alleged violations of section 337 of the Tariff Act of 1930, as amended, (19 U.S.C. 1337) (“section 337”) in the importation into the United States, the sale for importation, and the sale within the United States after importation of certain 3G mobile handsets and components thereof by reason of infringement of certain claims of U.S. Patent Nos. 7,117,004; 7,190,966 (“the '966 patent”); 7,286,847 (“the '847 patent”); and 6,973,579. The Notice of Investigation named Nokia Corporation of Espoo, Finland and Nokia Inc. of Irving, Texas (collectively, “Nokia”) as respondents. Id. The Office of Unfair Import Investigations was named as a participating party. Id. On July 18, 2014, the Commission amended the Notice of Investigation (“NOI”) to add Microsoft Mobile OY (“MMO”) as a party. 79 FR 43068 (July 24, 2014).

On August 14, 2009, the ALJ issued his final ID, finding no violation of section 337. On October 16, 2009, the Commission determined to review the final ID in part and terminated the investigation with a finding of no violation. 74 FR 55068 (Oct. 26, 2009).

InterDigital timely appealed the Commission's final determination of no violation of section 337 as to all of the asserted claims of the '966 patent and claim 5 of the '847 patent to the U.S. Court of Appeals for the Federal Circuit. On August 1, 2012, the Federal Circuit reversed the Commission's construction of two claim limitations found in the appealed patents-in-suit, reversed the Commission's determination of non-infringement as to the asserted claims of those patents, and remanded to the Commission for further proceedings. InterDigital Commc'ns, LLC v. Int'l Trade Comm'n., 690 F.3d 1318 (Fed. Cir. 2012).

On February 12, 2014, the Commission issued a Notice, Order, and Opinion deciding certain aspects of the investigation and remanding other aspects to the chief administrative law judge (“ALJ”). 79 FR 9277 (Feb. 18, 2014); see also Comm'n Op. Remanding Investigation (Feb. 12, 2014); Comm'n Order Remanding Investigation (Feb. 12, 2014). On February 24, 2014, Nokia petitioned for reconsideration of the Commission's remand Order and Opinion. On March 24, 2014, the Commission granted in part the petition for reconsideration and issued a revised remand notice, order, and opinion. 79 FR 17571 (Mar. 28, 2014).

On December 1, 2014, InterDigital filed a motion to substitute InterDigital Communications, Inc. for InterDigital Communications Corp. The motion stated that the Commission investigative attorney did not oppose the motion. On December 11, 2014, respondents Nokia, Inc. and MMO (collectively “Respondents”) filed an opposition to the motion.

On January 14, 2014, the ALJ issued the subject ID, granting InterDigital's motion. On January 22, 2015, Respondents filed a petition for review of the subject ID. On January 29, 2015, InterDigital and the IA each filed responses to the petition. On February 10, 2015, Respondents filed a motion for leave to reply to InterDigital's response. On February 11, 2015, InterDigital filed an opposition to the motion.

The Commission has determined not to review the subject ID. The Commission has further determined to not grant Respondents' motion for leave to file a reply.

The authority for the Commission's determination is contained in section 337 of the Tariff Act of 1930, as amended (19 U.S.C. 1337), and in part 210 of the Commission's Rules of Practice and Procedure (19 CFR part 210).

By order of the Commission.
Issued: February 13, 2015.
Lisa R. Barton,
Secretary to the Commission.

[FR Doc. 2015-03513 Filed 2-19-15; 8:45 am]

BILLING CODE 7020-02-P